DEPARTMENT OF ENERGY

Federal Energy Regulatory Commission

[Docket No. RP96-383-017]

Dominion Transmission, Inc.; Notice of Compliance Filing

December 19, 2000.

Take notice that on December 14, 2000, in compliance with the Commission's Letter Order, dated November 30, 2000, in Docket No. RP96-383-014] Dominion Transmission Inc. (DTI) tendered for filing Substitute Third Revised tariff Sheet No. 1300, together with an explanation of the contractual rights and obligations under a negotiated rate agreement for FT service between DTI and Central Hudson Enterprises Corporation (Central Hudson).

DTI states that Exhibit A to the October 2000 FT Agreement clarifies that the maximum quantities of gas that DTI shall deliver and that Customer may tender are a MDTQ of 15,000 Dt and a MATQ of 5,940,000 DT. DTI notes that these figures are the same as the contract quantities specified on Second Revised Sheet No. 1406, thus alleviating the Commission's concern expressed in the Letter Order. The contract exhibit also clarifies that DTI's obligation is a fixed daily and annual contract maximum quantity entitlement and that DTI is not obligated in any way to provide service at an unstated “full requirements” level.

DTI states that copies of its letter of transmittal and enclosures have been served upon the parties to this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32800 Filed 12-22-00; 8:45 am]

BILLING CODE 6717-01-M